ENVIRONMENTAL PROTECTION AGENCY

[FRL-9663-7]

Clean Air Act Operating Permit Program; Petitions for Objection to State Operating Permits for Consolidated Environmental Management, Inc.—Nucor Steel Louisiana

AGENCY: Environmental Protection Agency (EPA).

ACTION: Notice of final action.

SUMMARY: This document announces that the EPA Administrator has responded to citizen petitions asking EPA to object to operating permits (Permit No. 2560-0028-V0, Permit No. 3086-V0, and Permit No. 2560-0028-V1) issued by the Louisiana Department of Environmental Quality (LDEQ). Specifically, the Administrator has granted the June 25, 2010 and May 3, 2011 petitions, submitted by Zen-Noh Grain Corporation (“Zen-Noh” or “Petitioner”) to object to the May 24, 2010 and January 27, 2011, operating permits issued to Consolidated Environmental Management, Inc.—Nucor Steel Louisiana (“Nucor”) in Saint James Parish, Louisiana. Pursuant to sections 307(b) and 505(b)(2) of the Clean Air Act (CAA), a petition for judicial review of those parts of the Order that deny issues in the petition may be filed in the United States Court of Appeals for the appropriate circuit within 60 days from the date this notice appears in the Federal Register.

ADDRESSES: You may review copies of the final Order, the petition, and other supporting information at EPA Region 6, 1445 Ross Avenue, Dallas, Texas 75202-2733.

EPA requests that if at all possible, you contact the individual listed in the FOR FURTHER INFROMATION CONTACT section to view copies of the final Order, petition, and other supporting information. You may view the hard copies Monday through Friday, from 9 a.m. to 3 p.m., excluding Federal holidays. If you wish to examine these documents, you should make an appointment at least 24 hours before the visiting day. Additionally, the final Order for the Consolidated Environmental Management, Inc.—Nucor Steel Louisiana (“Nucor”) is available electronically at: http://www.epa.gov/region07/air/title5/petitiondb/petitions/nucor_steel_response_2012_zennoh.pdf.

FOR FURTHER INFORMATION CONTACT: Dinesh Senghani at (214) 665-7221, email address: senghani.dinesh@epa.gov or the above EPA, Region 6 address.

SUPPLEMENTARY INFORMATION: The CAA affords EPA a 45-day period to review, and object to as appropriate, a Title V operating permit proposed by State permitting authorities. Section 505(b)(2) of the Act authorizes any person to petition the EPA Administrator, within 60 days after the expiration of this review period, to object to a Title V operating permit if EPA has not done so. Petitions must be based only on objections to the permit that were raised with reasonable specificity during the public comment period provided by the State, unless the petitioner demonstrates that it was impracticable to raise these issues during the comment period or the grounds for the issue arose after this period.

EPA received two petitions from the Petitioners dated June 25, 2010 and May 3, 2011, requesting that EPA object to the issuance of the Title V operating permits to Consolidated Environmental Management, Inc.—Nucor Steel Louisiana (“Nucor”), for the operation of the Pig Iron and Direct Reduced Iron (DRI) manufacturing facility in Saint James Parish, Louisiana for the following reasons:

In the 2010 Petition for the pig iron title V permit, the Petitioner makes the following claims: (1) The Best Achievable Control Technology (“BACT”) determinations are unsupported and inadequate under the Prevention of Significant Deterioration program (“PSD”) and Louisiana's State Implementation Plan (“SIP”); (2) LDEQ failed to require BACT for major sources of pollutants; (3) LDEQ failed to require reliable ambient air quality modeling to ensure that the facility's emissions will not cause an exceedance of a National Ambient Air Quality Standard (NAAQS) or PSD increment; (4) LDEQ unlawfully issued the permits without requiring preconstruction monitoring for particulate matter less than 10 microns (PM10), sulfur dioxide (SO2), hydrogen sulfide (H2S), total reduced sulfur (TRS) and sulfuric acid mist; and (5) LDEQ unlawfully issued the pig iron PSD permit without providing the required opportunity for public participation in the decision-making process.

In the 2011 Petition for the modified title V pig iron permit and for the DRI title V permit, the Petitioner makes the following claims: (1) Permitting construction of the DRI process and pig iron process as separate projects unlawfully circumvents the requirements of PSD and the Louisiana SIP; (2) The ambient air quality analysis to demonstrate compliance with the nitrogen dioxide (“NO2”) NAAQS unlawfully relied on the elimination of heat recovery steam generator (“HRSG”) bypass vents on the coke ovens and installation of selective catalytic reduction (“SCR”) control devices on pig iron emission units, even though these emission reductions are not federally enforceable; (3) Authorizing installation of SCR control devices by way of the modified pig iron title V permit violates PSD and the SIP because SCR will significantly increase emissions of sulfuric acid mist; (4) LDEQ violated PSD and the SIP by issuing the DRI permits without preconstruction ambient air quality monitoring; (5) The DRI permits violate PSD and the SIP because the DRI PSD permit does not include BACT determinations with specific emission limitations and compliance provisions; therefore, the DRI title V permit does not incorporate all applicable requirements; (6) LDEQ violated PSD and the SIP by issuing the DRI permits and the modified pig iron title V permit without a BACT emission limitation for particulate matter less than 2.5 microns (PM2.5); and (7) the BACT determinations in the DRI PSD permit do not comply with the requirements of PSD and the SIP.

On March 23, 2012, the Administrator issued an order granting both petitions. The order explains the reasons behind EPA's conclusion to grant these petitions.

Dated: April 12, 2012.
Al Armendariz,
Regional Administrator, Region 6.

[FR Doc. 2012-9728 Filed 4-20-12; 8:45 am]

BILLING CODE 6560-50-P